NUCLEAR REGULATORY COMMISSION

10 CFR Parts 30, 32, 33, 34, 35, 36, 37, 39, 51, 71, and 73

[NRC-2008-0120]

RIN 3150-AI12

Physical Protection of Byproduct Material; Extension of Comment Period

AGENCY: Nuclear Regulatory Commission.

ACTION: Proposed rule: Extension of comment period.

SUMMARY: On June 15, 2010, the U.S. Nuclear Regulatory Commission (NRC) published for public comment a proposed rule to establish security requirements for the use and transport of Category 1 and Category 2 quantities of radioactive material. The public comment period for this proposed rule was to have expired on October 13, 2010. The NRC received several requests to extend the comment period to January 18, 2011. Due to the size and complexity of the proposed rule and the associated draft implementation guidance, the NRC has decided to extend the comment period until January 18, 2011.

DATES: The comment period has been extended and now expires on January 18, 2011. Comments received after this date will be considered if it is practical to do so, but the NRC is able to assure consideration only for comments received on or before this date.

ADDRESSES: Please include Docket ID NRC-2008-0120 in the subject line of your comments. For instructions on accessing documents related to this action, see “Submitting Comments and Accessing Information” in the SUPPLEMENTARY INFORMATION section of this document. You may submit comments by any one of the following methods.

Federal Rulemaking Web site: Go to http://www.regulations.gov and search for documents filed under Docket ID NRC-2008-0120. Address questions about NRC dockets to Carol Gallagher 301-492-3668; e-mail Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1677. Hand-deliver comments to: 11555 Rockville Pike, Rockville, Maryland 20852, between 7:30 am and 4:15 pm Federal workdays. (Telephone 301-415-1677)

Fax comments to: Secretary, U.S. Nuclear Regulatory Commission at 301-415-1101.

FOR FURTHER INFORMATION CONTACT: Merri Horn, Office of Federal and State Materials and Environmental Management Programs, U.S. Nuclear Regulatory Commission, Washington, DC 20555-0001, telephone: (301) 415-8126, e-mail: Merri.Horn@nrc.gov.

SUPPLEMENTARY INFORMATION:

Submitting Comments and Accessing Information

Comments submitted in writing or in electronic form will be posted on the NRC Web site and on the Federal rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this proposed rule using the following methods:

NRC's Public Document Room (PDR): The public may examine and have copied for a fee publicly available documents at the NRC's PDR, Public File Area O-1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737 or by e-mail to PDR.resource@nrc.gov.

Federal Rulemaking Web site: Public comments and supporting materials related to this proposed rule can be found at http://www.regulations.gov by searching on Docket ID NRC-2008-0120.

Discussion

The NRC published a proposed rule that would place the security requirements for use of Category 1 and Category 2 quantities of radioactive material into a new Part 37 of Title 10 of the Code of Federal Regulations. Category 1 and Category 2 thresholds are based on the thresholds established for Category 1 and Category 2 in the International Atomic Energy Agency (IAEA) Code of Conduct on the Safety and Security of Radioactive Sources. The NRC considers Category 1 and Category 2 quantities of radioactive material to be risk-significant and, therefore, these materials warrant additional protection. The objective of the proposed rule is to ensure that effective security measures are in place for the protection of Category 1 and Category 2 quantities of radioactive material against the possibility of misuse of the radioactive material for malevolent purposes.

The proposed rule was published on June 15, 2010 (75 FR 33902) and the public comment period was to have expired October 13, 2010. The NRC received several requests to extend the comment period to January 18, 2011. Due to the size and complexity of the proposed rule and the associated draft implementation guidance, the NRC has decided to extend the comment period until January 18, 2011.

Dated at Rockville, Maryland, this 4th day of October, 2010.
For the Nuclear Regulatory Commission.
Annette Vietti-Cook,
Secretary of the Commission.

[FR Doc. 2010-25397 Filed 10-7-10; 8:45 am]

BILLING CODE 7590-01-P